DEPARTMENT OF COMMERCE

Office of Business Liaison

Secretarial Infrastructure Business Development Mission to Mexico

AGENCY: International Trade Administration, Department of Commerce.

ACTION: Amendment.

SUMMARY: The United States Department of Commerce, Office of the Secretary, Office of Business Liaison, is amending the Notice published at 78 FR 48855, August 12, 2013, regarding the Secretarial Infrastructure Business Development Mission to Mexico originally scheduled for November 18-22, 2013, has been rescheduled for February 3-7, 2014.

FOR FURTHER INFORMATION CONTACT: Jennifer Andberg, Office of Business Liaison, Department of Commerce, Phone: 202-482-1360; Fax: 202-482-9000, Email: businessliaison@doc.gov.

Elnora Moye,
Trade Program Assistant.

[FR Doc. 2013-28579 Filed 11-27-13; 8:45 am]

BILLING CODE 3510-FP-P